DEPARTMENT OF VETERANS AFFAIRS

[OMB Control No. 2900-0673]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 31, 2006.

FOR FURTHER INFORMATION CONTACT: Denise McLamb, Records Management Service (005G2), Department of Veterans Affairs, 810 Vermont Avenue, NW., Washington, DC 20420, (202) 565-8374, fax (202) 565-6950 or e-mail denise.mclamb@mail.va.gov. Please refer to “OMB Control No. 2900-0673.” Send comments and recommendations concerning any aspect of the information collection to VA's OMB Desk Officer, OMB Human Resources and Housing Branch, New Executive Office Building, Room 10235, Washington, DC 20503 (202) 395-7316. Please refer to “OMB Control No. 2900-0673” in any correspondence.

SUPPLEMENTARY INFORMATION: Title: Request for One-VA Identification Card, VA Form 0711.

OMB Control Number: 2900-0673.

Type of Review: Extension of a currently approved collection.

Abstract: VA Form 0711 is used to collect pertinent information from employees, applicants seeking employment with VA, contractors, and affiliates (such as students, WOC employees and others) prior to issuing a Department identification credential. The data collected will be used to personalize, print, and issue a personal identify verification card.

An agency may not conduct or sponsor, and a person is not required to respond to a collection of information unless it displays a currently valid OMB control number. The Federal Register Notice with a 60-day comment period soliciting comments on this collection of information was published on February 14, 2006 at pages 7826-7827.

Affected Public: Federal Government, Individuals or households, and Business or other for-profits.

Estimated Annual Burden: 8,333 hours.

Estimated Average Burden per Respondent: 5 minutes.

Frequency of Response: On occasion.

Estimated Number of Respondents: 100,000.

Dated: June 14, 2006.
By direction of the Secretary.
Denise McLamb,
Program Analyst, Records Management Service.

[FR Doc. E6-10233 Filed 6-28-06; 8:45 am]

BILLING CODE 8320-01-P